DEPARTMENT OF THE INTERIOR

National Park Service

[NPS-WASO-NRNHL-13905;PPWOCRADI0, PCU00RP14.R50000]

National Register of Historic Places; Notification of Pending Nominations and Related Actions

Nominations for the following properties being considered for listing or related actions in the National Register were received by the National Park Service before August 17, 2013. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by September 25, 2013. Before including your address, phone number, email address, or other personal identifying information in your comment, you should be aware that your entire comment—including your personal identifying information—may be made publicly available at any time. While you can ask us in your comment to withhold your personal identifying information from public review, we cannot guarantee that we will be able to do so.

Dated: August 22, 2013.
J. Paul Loether,
Chief, National Register of Historic Places/National Historic Landmarks Program.

ARIZONA

Coconino County

Albright, Horace M., Training Center, Albright Ave. & Center Rd., Grand Canyon, 13000784

ARKANSAS

Faulkner County

Hall—Hogan Grocery Store, (Mixed Masonry Buildings of Silas Owens, Sr. MPS) 1364 Mitchell, Conway, 13000785

Independence County

Walnut Grove Cemetery, Walden Rd., Cord, 13000786

Perry County

Camp House, 4684 W. AR 60, Aplin, 13000787

Pope County

Hankins, Thomas J., House, W. side of AR 7 approx. 375 ft. N. of jct. with AR 123, Pelsor, 13000788

Pulaski County

Dunbar, Paul Laurence, School Neighborhood Historic District, (Historically Black Properties in Little Rock's Dunbar School Neighborhood MPS) Roughly bounded by Wright Ave. S. Chester, S. Ringo & W. 24th Sts., Little Rock, 13000789

Southern Trust Building, 221 W. 2nd St., Little Rock, 13000790

Union County

McWilliams, W.F. & Estelle, House, 314 Summit Ave., El Dorado, 13000791

CALIFORNIA

Contra Costa County

Chung Mei Home Historic District, 1760 Elm St., El Centro, 13000792

Los Angeles County

Saint Elizabeth of Hungary Catholic Church, 1845 Lake Ave., Altadena, 13000793

FLORIDA

Marion County

Morgan—Townsend House, 13535 N. FL 19, Salt Springs, 13000794

IOWA

Des Moines County

Lagomarcino—Grupe Company, 101-111 Valley St., Burlington, 13000796

MICHIGAN

Livingston County

Sexton, William K. and Nellie, House, 205 Mason Rd. (Marion Township), Howell, 13000797

Mason County

Lake Michigan Beach House, Ludington State Park, 8800 W. MI 116 (Hamlin Township), Hamlin Lake, 13000798

Midland County

Schwartz, Robert E. and Barbara, House, 3201 W. Sugnet Rd., Midland, 13000799

Wayne County

Balogh, Tivadar and Dorothy, House, 49800 Joy Rd. (Plymouth Charter Township), Cherry Hill, 13000800

Kessler, William and Margot, House, 1013 Cadieux Rd., Grosse Pointe Park, 13000801

NEW HAMPSHIRE

Sullivan County

Saint-Gaudens National Historic Site Historic District, 139 Saint Gaudens Rd., Cornish, 13000802

NORTH CAROLINA

Pender County

Penderlea Homesteads Historic District, Bounded by Sills Cr., Webber, Crooked Run, Lake, Lamb & Raccoon Rds., Willard, 13000803

OREGON

Benton County

North Palestine Baptist Church, Near 7300 NE. Arnold Ave., Adair Village, 13000804

Multnomah County

Green, Harry A. and Ada, House, 3316 SE. Ankeny St., Portland, 13000805

Wallowa County

Enterprise Public Library, (Downtown Enterprise MPS) 101 NE. 1st St., Enterprise, 13000806

VIRGINIA

Fairfax County

Hollin Hills Historic District, (Historic Residential Suburbs in the United States, 1830-1960 MPS) Roughly Beechwood, Elba, Glasgow, Martha's, Paul Springs, Range & Stafford Rds., Mason Hill, Rebecca & Whiteoaks Drs., Alexandria, 13000807

WISCONSIN

Oneida County

Three Lakes Rod and Gun Club, 1230 State Trunk Hwy. 32, Three Lakes, 13000808

In the interest of preservation a request for a three day comment period has been made for the following resource:

HAWAII

Maui County

Ma'alaea General Store, 132 Ma'alaea Rd., Wailuku, 13000795

A request for removal has been made for the following resources:

ARKANSAS

Calhoun County

Tinsman School, SW corner of AR 274 and CR 38, Tinsman, 06001265

Cleveland County

Hall Morgan Post 83, American Legion Hut, 208 Sycamore St., Rison, 03000399

Pulaski County

Bruner House, 1415 Cantrell Rd., Little Rock, 77000267

[FR Doc. 2013-21920 Filed 9-9-13; 8:45 am]

BILLING CODE 4312-51-P